NUCLEAR REGULATORY COMMISSION

Advisory Committee on Reactor Safeguards Subcommittee Meeting on Future Plant Designs; Notice of Meeting

The ACRS Subcommittee on Future Plant Designs will hold a meeting on March 7, 2007, Room T-2B3, 11545 Rockville Pike, Rockville, Maryland.

The entire meeting will be open to public attendance.

The agenda for the subject meeting shall be as follows:

Wednesday, March 7, 2007—10 a.m. Until the Conclusion of Business

The Subcommittee will review the NRC staff's work on technology neutral licensing framework (i.e., Working Draft NUREG-1860) with a focus on ensuring the value of such an approach versus the development of a licensing framework for specific designs, such as a high temperature gas cooled reactor or a liquid metal cooled reactor (reference the Commission's November 8, 2006, Staff Requirements Memorandum to Dr. Larkins). During the briefing, the Committee will also explore with the NRC staff the pros and cons of developing a licensing framework for specific designs. The Subcommittee will gather information, analyze relevant issues and facts, and formulate proposed positions and actions, as appropriate, for deliberation by the full Committee.

Members of the public desiring to provide oral statements and/or written comments should notify the Designated Federal Official, Mr. David C. Fischer (telephone 301-415-6889) between 7:30 a.m. and 5 p.m. (ET) five days prior to the meeting, if possible, so that appropriate arrangements can be made. Electronic recordings will be permitted.

Further information regarding this meeting can be obtained by contacting the Designated Federal Official between 7:30 a.m. and 5 p.m. (ET). Persons planning to attend this meeting are urged to contact the above named individual at least two working days prior to the meeting to be advised of any potential changes to the agenda.

Dated: February 12, 2007.
Cayetano Santos,
Acting Branch Chief, ACRS.

[FR Doc. E7-3035 Filed 2-21-07; 8:45 am]

BILLING CODE 7590-01-P